DEPARTMENT OF AGRICULTURE

Food Safety and Inspection Service

[Docket No. FSIS-2010-0044]

Codex Alimentarius Commission: Meeting of the Codex Committee on Pesticide Residues

AGENCY: Office of the Under Secretary for Food Safety, USDA.

ACTION: Notice of public meeting and request for comments.

SUMMARY: The Office of the Under Secretary for Food Safety, U.S. Department of Agriculture (USDA), and the Office of Pesticide Programs, U.S. Environmental Protection Agency (EPA), are sponsoring a public meeting on February 24, 2011. The objective of the public meeting is to provide information and receive public comments on agenda items and draft United States (U.S.) positions that will be discussed at the 43rd Session of the Codex Committee on Pesticide Residues (CCPR) of the Codex Alimentarius Commission (Codex), which will be held in Beijing, P.R. China April 4-9, 2011. The Under Secretary for Food Safety and the EPA recognize the importance of providing interested parties the opportunity to obtain background information on the 43rd Session of the CCPR and to address items on the agenda.

DATES: The public meeting is scheduled for February 24, 2011, from 1 p.m. to 3 p.m.

ADDRESSES: The public meeting will be held at EPA, One Potomac Yard, Room S-7100, 2777 South Crystal Drive, Arlington, VA 22202.

Documents related to the 43rd Session of the CCPR will be accessible via the World Wide Web at the following address: http://www.codexalimentarius.net/current.asp.

Lois Rossi, U.S. Delegate to the 43rd Session of the CCPR and the EPA, invites U.S. interested parties to submit their comments electronically to the following e-mail address: Rossi.Lois@epamail.epa.gov.

Call in Number:

If you wish to participate in the public meeting for the 43rd Session of the CCPR by conference call, please use the following call in number and participant code listed below.

Call in Number (United States): 1-866-299-3188

Call in Number (International): 1-706-758-1822

Participant code: 7033056463#

For Further Information About the 43rd Session of the CCPR Contact: Lois Rossi, Director of Registration Division, Office of Pesticide Programs, EPA, Ariel Rios Building, 1200 Pennsylvania Avenue, NW., Washington, DC 20460, Phone: (703) 305-5447, Fax: (703) 305-6920, E-mail: Rossi.Lois@epamail.epa.gov.

For Further Information About the Public Meeting Contact: Doreen Chen-Moulec, U.S. Codex Office, 1400 Independence Avenue, SW., Room 4861, Washington, DC 20250. Phone: (202) 205-7760, Fax: (202) 720-3157, E-mail: Doreen.Chen-Moulec@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCPR is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides, in specific food items or groups of food.

The Committee is hosted by China.

Issues To Be Discussed at the Public Meeting

The following items on the agenda for the 43rd Session of the CCPR will be discussed during the public meeting:

• Matters Referred to the Committee by Codex and Codex Committees

• Report on Items of General Consideration by the 2010 JMPR

• Report on the 2010 JMPR Response to Specific Concerns Raised by the CCPR

• Draft and Proposed Draft Maximum Residue Limits (MRL) for Pesticides in Foods and Feeds at Steps 7 and 4

• Discussion Paper on the Application of Proportionality in Selecting Data for MRL Estimation

• Draft Revision of the Codex Classification of Foods and Animal Feeds at Step 7: Tree Nuts, Herbs and Spices

• Proposed Draft Revision of the Codex Classification of Foods and Animal Feeds at Step 4: Assorted Tropical and Sub-Tropical Fruits-Edible Peel; Assorted Tropical and Subtropical Fruits-Inedible Peel; Leafy Vegetables (including Brassica Leafy Vegetables); and Brassica (Cole or Cabbage) Vegetables, Cabbage, Head and Flowerhead Cabbages

• Draft Principles and Guidance for the Selection of Representative Commodities for the Extrapolation of MRL for Pesticides for Commodity Groups at Step 7

• Proposed Draft Annexes to the Draft Principles and Guidance for the Selection of Representative Commodities for the Extrapolation of MRL for Pesticides for Commodity Groups at Step 4

• Discussion Paper on the Guidance to Facilitate the Establishment of MRL for Pesticides for Minor Use and Specialty Crops

• Proposed Draft Revision of the Guidelines on the Estimation of Uncertainty of Results for the Determination of Pesticide Residues at Step 4

• Discussion Paper on How To Address Methods of Analysis for Pesticide Residues by the CCPR

• Revision of the Risk Analysis Principles Applied by the CCPR

• Establishment of Codex Priority Lists of Pesticides

• Consideration of the Status of Codex MRL for Lindane

• Discussion Paper on JMPR Resource Issues in the Provision of Scientific Advice to the CCPR

• Assessment of MRL for Pesticides in Tea

Each issue listed will be fully described in documents distributed, or to be distributed, by the Secretariat prior to the meeting. Members of the public may access copies of these documents (see ADDRESSES).

Public Meeting

At the February 24, 2011, public meeting, draft U.S. positions on the agenda items will be described and discussed, and attendees will have the opportunity to pose questions and offer comments. Written comments may be offered at the meeting or sent to the U.S. Delegate for the 43rd session of the CCPR, Lois Rossi (see ADDRESSES). Written comments should state that they relate to activities of the 43rd session of the CCPR.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC, on January 12, 2011.
Karen Stuck,
U.S. Manager for Codex Alimentarius.

[FR Doc. 2011-1143 Filed 1-19-11; 8:45 am]

BILLING CODE 3410-DM-P